NUCLEAR REGULATORY COMMISSION

[Docket No. 50-247]

Consolidated Edison Company of New York, Inc., Indian Point Nuclear Generating Unit No. 2; Issuance of Final Director's Decision Under 10 CFR 2.206

By letter dated September 15, 1999, Mr. David A. Lochbaum, on behalf of the Union of Concerned Scientists (Petitioner), pursuant to Section 2.206 of Title 10 of the Code of Federal Regulations (10 CFR 2.206), requested that the U.S. Nuclear Regulatory Commission (Commission or NRC) take action with regard to the Indian Point Nuclear Generating Unit No. 2 (IP2), owned and operated by Consolidated Edison Company of New York, Inc. (Con Ed). The Petitioner requested that the NRC take enforcement action to modify or suspend the operating license for IP2, operated by Con Ed (the licensee), to prevent the reactor from resuming operation until the five issues identified in the attachment to the Petition have been fully resolved. As an acceptable alternative in lieu of a suspension or modification of the license, the Petitioner requested that the NRC issue a confirmatory action letter or an order requiring these issues to be fully resolved before unit restart. The five issues that were raised in the Petition are (1) The apparent violation of station battery design and licensing bases, (2) the apparent failure to adequately correct circuit breaker problems, (3) the apparent unreliability of emergency diesel generators, (4) the potentially unjustified license amendment for undervoltage and degraded voltage relay surveillance intervals, and (5) the apparent errors and nonconservatisms in individual plant examinations (IPEs). Along with the last issue, the Petitioner stated that the event on August 31, 1999, at IP2 revealed potential problems with the plant-specific risk assessment developed by the licensee and now used to establish priorities for maintenance and inspections. Additionally, the Petitioner requested that a public hearing on this Petition be conducted in the vicinity of the plant before its restart is authorized by the NRC. In a transcribed telephone conversation between the Petitioner and the members of the NRC's Petition Review Board on September 22, 1999, the Petitioner clarified two of the issues in the Petition. First, the Petitioner stated that because of an apparent failure to accomplish the commitment in the NRC's safety evaluation for the license amendment mentioned in the Petition, the Petitioner was concerned that past licensing commitments may not have been implemented. Second, the Petitioner questioned whether the amount of time the licensee took to perform certain actions during the event on August 31, 1999, was consistent with the times expected if a station blackout (SBO) had occurred since many of the procedures and processes in response to an SBO event were used.

The Director of the Office of Nuclear Reactor Regulation has addressed the technical concerns provided by the Petitioner. However, the Petitioner's request for the staff to take enforcement action was not granted for the reasons that are explained in the “Final Director's Decision Pursuant to 10 CFR 2.206” (DD-00-02). The complete text of the Final Director's Decision is available for public inspection at the Commission's Public Document Room located in the Gelman Building, 2120 L Street, NW., Washington, DC, and will be accessible electronically from the agencywide documents access and management system (ADAMS) public library component on the NRC web site, http://www.nrc.gov (the electronic reading room).

A copy of the Decision will be filed with the Secretary of the Commission for the Commission's review in accordance with 10 CFR 2.206(c) of the Commission's regulations. As provided for by this regulation, the Decision will constitute the final action of the Commission 25 days after the date of issuance of the Decision unless the Commission, on its own motion, institutes a review of the Decision within that time.

Dated at Rockville, Maryland, this 13th day of April 2000.
For the Nuclear Regulatory Commission.
Samuel J. Collins,
Director, Office of Nuclear Reactor Regulation.

[FR Doc. 00-9751 Filed 4-18-00; 8:45 am]

BILLING CODE 7590-01-P